DEPARTMENT OF COMMERCE

International Trade Administration

[A-570-601]

Tapered Roller Bearings From the People's Republic of China: Rescission of Antidumping Duty Administrative Review; 2018-2019

AGENCY: Enforcement and Compliance, International Trade Administration, Department of Commerce.

SUMMARY: The Department of Commerce (Commerce) is rescinding its administrative review of the antidumping duty (AD) order on tapered roller bearings (TRBs) from the People's Republic of China (China) for the period June 1, 2018, through May 31, 2019, based on the timely withdrawal of all requests for review.

DATES: Applicable November 1, 2019.

FOR FURTHER INFORMATION CONTACT: Alex Wood, Enforcement and Compliance, International Trade Administration, U.S. Department of Commerce, 1401 Constitution Avenue NW, Washington, DC 20230; telephone: (202) 482-1959.

SUPPLEMENTARY INFORMATION:

Background

On June 3, 2019, Commerce published in the Federal Register a notice of opportunity to request administrative review of the AD order on TRBs from China for the period June 1, 2018, through May 31, 2019.¹

¹ See Antidumping or Countervailing Duty Order, Finding, or Suspended Investigation; Opportunity to Request Administrative Review, 84 FR 25521 (June 3, 2019).

From June 27, 2019, to July 1, 2019, we received timely requests for review from Taizhou Zson Bearing Technology Co., Ltd. (Zson), Hangzhou Feiwang Auto Parts Co., Ltd. (Feiwang), Ningbo Xinglun Bearings Import & Export Co., Ltd. (Ningbo Xinglun), GGB Bearing Technology (Suzhou) Co., Ltd. (GGB), BRTEC Wheel Hub Bearing Co., Ltd. (BRTEC), Zhejiang Sihe Machine Co., Ltd. (Sihe), Zhejiang Sling Automobile Bearing Co., Ltd. (Sling), Changshan Peer Bearing Company, Ltd. (CPZ), and Shanghai General Bearing Co., Ltd. (SGBC).²

² See Letter from Zson, “Tapered Roller Bearings from the People's Republic of China—Request for Administrative Review,” dated June 27, 2019; Letter from Feiwang, “Request for AD Administrative Review Tapered Roller Bearings from China; A-570-601,” dated June 28, 2019; Letter from Ningbo Xinglun, “Tapered Roller Bearings from China: Request for Administrative Review,” dated June 28, 2019; Letter from GGB, “Request for the Administrative Review of the Antidumping Duty Order on Tapered Roller Bearings from the People's Republic of China, A-570-601 (POR: 6/1/18-5/31/19),” dated July 1, 2019; Letter from BRTEC, “Tapered Roller Bearings from the People's Republic of China—Request for Administrative Review,” dated July 1, 2019; Letter from Sihe and Sling, “Tapered Roller Bearings from the People's Republic of China—Request for Administrative Review,” dated July 1, 2019; Letter from CPZ, “Tapered Roller Bearing from the People's Republic of China: Request for Administrative Review,” dated July 1, 2019; and Letter from SGBC, “Tapered Roller Bearing from the People's Republic of China: Request for Administrative Review,” dated July 1, 2019.

On July 29, 2019, in accordance with section 751(a) of the Tariff Act of 1930, as amended (the Act), Commerce published in the Federal Register a notice of initiation of an administrative review of the AD order.³ The administrative review was initiated with respect to nine companies and covers the period June 1, 2018 through May 31, 2019. Subsequent to the initiation of the administrative review, each of the exporters in this proceeding timely withdrew their review requests, as discussed below.

³ See Initiation of Antidumping and Countervailing Duty Administrative Reviews, 84 FR 36572 (July 29, 2019) (Initiation Notice).

Rescission of Review

Pursuant to 19 CFR 351.213(d)(1), Commerce will rescind an administrative review, in whole or in part, if a party that requested a review withdraws its request within 90 days of the date of publication of notice of initiation of the requested review. In August 2019, Chinese exporters GGB, CPZ, SGBC, Sihe, Sling, and Ningbo Xinglun withdrew their requests for review within 90 days of the date of publication of the Initiation Notice.⁴ In September 2019, Chinese exporters BRTEC and Zson withdrew their requests for review within 90 days of the date of publication of the Initiation Notice.⁵ Finally, in October 2019, Feiwang withdrew its request for review within 90 days of the publication of the Initiation Notice.⁶ Accordingly, Commerce is rescinding this review in accordance with 19 CFR 353.213(d)(1), in its entirety.

⁴ See GGB's Letter, “Withdrawal of Request for Administrative Review of the Antidumping Duty Order on Tapered Roller Bearings from the People's Republic of China, A-570-601 (POR: 6/1/18-5/31/19),” dated August 20, 2019; CPZ's Letter, “Certain Tapered Roller Bearings and Parts Thereof from the People's Republic of China: Withdrawal of Request for Administrative Review,” dated August 26, 2019; and SGBC's Letter, “Certain Tapered Roller Bearings and Parts Thereof from the People's Republic of China: Withdrawal of Request for Administrative Review,” dated August 26, 2019; Sihe and Sling's Letter, “Tapered Roller Bearings from the People's Republic of China—Withdrawal of Requests for Administrative Review, dated August 28, 2019; Ningbo Xinglun's Letter, “Tapered Roller Bearings from China: 2018-2019 Review; Withdrawal of Request for Administrative Review,” dated August 30, 2019.

⁵ See BRTEC's Letter, “Tapered Roller Bearings from the People's Republic of China—Withdrawal of Request for Administrative Review,” dated September 16, 2019; and Zson's Letter, “Tapered Roller Bearings from the People's Republic of China—Withdrawal of Request for Administrative Review,” dated September 17, 2019.

⁶ See Feiwang's Letter, “Tapered Roller Bearings from the People's Republic of China; A-570-601 Withdrawal of Request of Review,” dated October 9, 2019.

Assessment

Commerce will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). Commerce intends to issue appropriate assessment instructions directly to CBP 15 days after the date of publication of this notice in the Federal Register.

Notification to Importers

This notice serves as a reminder to importers whose entries will be liquidated as a result of this rescission notice, of their responsibility under 19 CFR 351.402(f)(2) to file a certificate regarding the reimbursement of antidumping duties prior to liquidation of the relevant entries during this review period. Failure to comply with this requirement may result in the presumption that reimbursement of antidumping duties occurred and the subsequent assessment of doubled antidumping duties.

Notification Regarding Administrative Protective Order

This notice also serves as a reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

Notification to Interested Parties

This notice is published in accordance with sections 751(a)(1) and 777(i)(1) of the Act and 19 CFR 351.213(d)(4).

Dated: October 24, 2019.
James Maeder,
Deputy Assistant Secretary for Antidumping and Countervailing Duty Operations.

[FR Doc. 2019-23897 Filed 10-31-19; 8:45 am]

BILLING CODE 3510-DS-P